DEPARTMENT OF HEALTH AND HUMAN SERVICES

Health Resources and Services Administration

Agency Information Collection Activities: Submission to OMB for Review and Approval; Public Comment Request; Rural Health Care Coordination Program Performance Improvement and Measurement System Database, OMB No. 0906-0024—Reinstate With Changes

AGENCY: Health Resources and Services Administration (HRSA), Department of Health and Human Services (HHS).

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than July 2, 2021.

ADDRESSES: Submit your comments, including the ICR Title, to the desk officer for HRSA, either by email to OIRA_submission@omb.eop.gov or by fax to (202) 395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference.

Information Collection Request Title: Rural Health Care Coordination Program Performance Improvement and Measurement System Database, OMB No. 0906-0024—Reinstate with Changes.

Abstract: The Rural Health Care Coordination (Care Coordination) program is authorized under Section 330A(e) of the Public Health Service (PHS) Act (42 U.S.C. 254(e)), as amended, to “improve access and quality of care through the application of care coordination strategies with the focus areas of collaboration, leadership and workforce, improved outcomes, and sustainability in rural communities.” This authority permits the Federal Office of Rural Health Policy to support rural health consortiums/networks aiming to achieve the overall goals of improving access, delivery, and quality of care through the application of care coordination strategies in rural communities.

This ICR was discontinued in January 2020. HRSA is requesting a reinstatement with changes as it was decided to re-compete this pilot program.

The proposed Rural Health Care Coordination Program draft measures for information collection reflect changes to the Clinical Measures section which was previously in section eight and now currently in section six. The Clinical Measures Section now expands previous project focus from three chronic diseases (i.e., Type 2 diabetes, Congestive Heart Failure, and Chronic Obstructive Pulmonary Disease) to an inclusive list of clinical measures in order to reflect a patient's overall health and well-being as well as the organizations' overall improved outcomes for the project. Proposed revisions also include measures to examine key elements cited for a successful rural care coordination program: (1) Collaboration, (2) leadership and workforce, (3) improved outcomes, and (4) sustainability.

1. Collaboration—Utilizing a collaborative approach to coordinate and deliver health care services through a consortium, in which member organizations actively engage in integrated, coordinated, patient-centered delivery of health care services.

2. Leadership and Workforce—Developing and strengthening a highly skilled care coordination workforce to respond to vulnerable populations' unmet needs within the rural communities.

3. Improved Outcomes—Expanding access and improving care quality and delivery, and health outcomes through evidence-based model and/or promising practices tailored to meet the local populations' needs.

4. Sustainability—Developing and strengthening care coordination program's financial sustainability by establishing effective revenue sources such as expanded service reimbursement, resource sharing, and/or contributions from partners at the community, county, regional, and state levels.

With the continuing shift in the healthcare environment towards provision of value-based care and utilization of reimbursement strategies through Centers for Medicare and Medicaid Services quality reporting programs, the latest competitive Rural Health Care Coordination Program cohort also aligned with this shift. An increased number of sophisticated applicants leveraging increasingly intricate reporting methodologies for quality, data collection, utilization and analysis has resulted in an estimate of burden hours more in line with the realities of the health care landscape. In addition, the total number of responses has increased to 10 since the previous Notice of Award. This is due to a new Rural Health Care Coordination Program grant cycle with an increased number of awardees therefore an increased number of respondents.

A 60-day notice published in the Federal Register on November 30, 2020, vol. 85, No. 230; pp. 76585-86. There were no public comments.

Need and Proposed Use of the Information: For this program, performance measures were drafted to provide data to the program and to enable HRSA to provide aggregate program data required by Congress under the Government Performance and Results Act of 1993. These measures cover the principal topic areas of interest to the Office of Rural Health Policy, including: (a) Access to care; (b) population demographics; (c) staffing; (d) consortium/network; (e) sustainability; and (f) project specific domains. All measures will speak to HRSA's progress toward meeting the goals set.

Likely Respondents: The respondents would be recipients of the Rural Health Care Coordination Program funding.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Rural Health Care Coordination Grant Program Measures | 10 | 1 | 10 | 3.5 | 35
Total | 10 |  | 10 |  | 35

HRSA specifically requests comments on: (1) The necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-11542 Filed 6-1-21; 8:45 am]

BILLING CODE 4165-15-P